DEPARTMENT OF HOMELAND SECURITY

Coast Guard

[USCG-2011-0975]

National Maritime Security Advisory Committee; Meeting

AGENCY: Coast Guard, DHS.

ACTION: Notice of Federal Advisory Committee Meeting.

SUMMARY: The National Maritime Security Advisory Committee (NMSAC) will meet via teleconference on November 15, 2011 to discuss the results of a working group tasked with reviewing the Draft Certain Dangerous Cargo (CDC) Security Strategy. This meeting will be open to the public.

DATES: The Committee will meet on Tuesday, November 15, 2011 from 11 a.m. to 1 p.m. This meeting may close early if all business is finished.

All written material and requests to make oral presentations should reach the Coast Guard on or before November 7, 2011.

ADDRESSES: The Committee will meet via telephone conference, on November 15, 2011. As there are only 100 teleconference lines, public participation will be on a first come basis. To participate via teleconference, please contact the person listed in the FOR FURTHER INFORMATION CONTACT Section.

For information on facilities or services for individuals with disabilities or to request special assistance at the teleconference, contact the person listed in the FOR FURTHER INFORMATION CONTACT section as soon as possible.

To facilitate public participation, we are inviting public comment on the issues to be considered by the committee as listed in the “Agenda” section below. You may submit written materials and requests to make oral presentations no later than November 7, 2011, and identified by docket number [USCG-2011-0975] using one of the following methods:

• Federal eRulemaking Portal: http://www.regulations.gov. Follow the instruction for submitting comments.

• Mail: Docket Management Facility (M-30), U.S. Department of Transportation, West Building Ground Floor, Room W12-140, 1200 New Jersey Avenue, SE., Washington, DC 20590-0001. We encourage use of electronic submissions because security screening may delay delivery of mail.

• Fax: (202) 493-2251.

• Hand Delivery: Same as mail address above, between 9 a.m. and 5 p.m., Monday through Friday, except Federal Holidays. The telephone number is 202-366-9329.

Instructions: All submissions received must include the words “Department of Homeland Security” and docket number [USCG-2011-0975]. All submissions received will be posted without alteration at http://www.regulations.gov, including any personal information provided. You may review a Privacy Act notice regarding our public dockets in the January 17, 2008 issue of the Federal Register (73 FR 3316).

Docket: Any background information or presentations available prior to the meeting will be published in the docket. For access to the docket to read background documents or submissions received by the NMSAC, go to http://www.regulations.gov “USCG-2011-0975) in the “Keyword” box, and then click “Search”.

Public comment period will be held during the meeting on November 15, 2011 from 12:30 p.m. to 1 p.m. Speakers are requested to limit their comments to 2 minutes. Please note that the public comment period will end following the last call for comments. Contact the person listed in the FOR FURTHER INFORMATION CONTACT section to register as a speaker.

FOR FURTHER INFORMATION CONTACT: Mr. Ryan Owens, Alternate Designated Federal Officer (ADFO) of NMSAC, 2100 2nd Street, SW., Stop 7581, Washington, DC 20593-7581; telephone 202-372-1108 or e-mail ryan.f.owens@uscg.mil. If you have any questions on viewing or submitting material to the docket, call Renee V. Wright, Program Manager, Docket Operations, telephone 202-366-9826.

SUPPLEMENTARY INFORMATION: Notice of this meeting is given under the Federal Advisory Committee Act, 5 U.S.C. App. NMSAC operates under the authority of 46 U.S.C. 70112. NMSAC provides advice, consults with, and makes recommendations to the Secretary of Homeland Security, via the Commandant of the Coast Guard, on matters affecting national maritime security.

Agenda of Meeting

As a result of the report issued by NMSAC at its April 2011 meeting and public listening sessions held by the Coast Guard in August 2011, the Coast Guard has developed a Certain Dangerous Cargo (CDC) Security Strategy. A NMSAC working group was created to review the following five goals of the strategy. The committee will review the information presented on each issue, deliberate on any recommendations presented in the Work Group reports, and formulate the recommendations for the Department's consideration.

a. Provide to internal and external stakeholders real-time national, regional, and local awareness of the risk of intentional attacks on the CDC Marine Transportation System.

b. Consistently assess vulnerability to threats of intentional attacks on the CDC Marine Transportation System and mitigate the vulnerability to an acceptable level.

c. Dynamically assess the potential consequences of an intentional attack on the CDC Marine Transportation System and capably mitigate, through coordinated response, the impact of a successful attack.

d. Lead the development of national, regional, and local resiliency/recovery capability from successful attacks on the CDC Marine Transportation System.

e. Establish the internal organization and processes, and external stakeholder relationships, to manage the national maritime CDC security program to an acceptable risk level.

Dated: October 20, 2011.
K.C. Kiefer,
Captain, U.S. Coast Guard, Office of Port and Facility Activities, Designated Federal Official, NMSAC.

[FR Doc. 2011-27724 Filed 10-25-11; 8:45 am]

BILLING CODE 9110-04-P